DEPARTMENT OF TRANSPORTATION

Federal Highway Administration

Notice of Extension for the Comment Period

AGENCY: Federal Highway Administration, DOT.

ACTION: Notice of time extension.

SUMMARY: The Federal Highway Administration wishes to announce a 45 day extension for the Comment period on the Draft Environmental Impact Statement (EIS) for the I-5 North Coast Corridor (I-5NCC) Project. The present closing day for comments is October 2, 2010. This additional period would extend the comment period to November 22, 2010.

This project is 27 miles in length through 6 lagoons and six cities within the Coastal Zone. This is a large complex document that incorporates extensive technical studies within this environmentally sensitive corridor.

FOR FURTHER INFORMATION CONTACT:

Cesar E. Perez, Senior Transportation Engineer, Federal Highway Administration, California Division, 650 Capitol Mall, Rm. 4-100, Sacramento, CA 95747, (916) 498-5065, Cesar.perez@dot.gov.

Shay Lynn Harrison, Chief, Environmental Analysis Branch C, 4050 Taylor St., San Diego, CA 92110, (619) 688-0190, Shay.Lynn.Harrison@dot.ca.gov.

Issued on: September 23, 2010.
Cindy Vigue,
Director, State Programs, Federal Highway Administration, Sacramento, California.

[FR Doc. 2010-24469 Filed 9-29-10; 8:45 am]

BILLING CODE 4910-22-P